ENVIRONMENTAL PROTECTION AGENCY

[EPA-HQ-OAR-2019-0489; FRL-10004-40-OMS]

Information Collection Request Submitted to OMB for Review and Approval; Comment Request; Motor Vehicle Emissions and Fuel Economy Compliance (Renewal)

AGENCY: Environmental Protection Agency (EPA).

ACTION: Notice.

SUMMARY: The Environmental Protection Agency (EPA) has submitted an information collection request (ICR), Motor Vehicle Emissions and Fuel Economy Compliance (EPA ICR Number 0783.65, OMB Control Number 2060-0104) to the Office of Management and Budget (OMB) for review and approval in accordance with the Paperwork Reduction Act. This is a proposed extension of the ICR, which is currently approved through March 31, 2020. Public comments were previously requested via the Federal Register on October 30, 2019 during a 60-day comment period. This notice allows for an additional 30 days for public comments. A fuller description of the ICR is given below, including its estimated burden and cost to the public. An agency may not conduct or sponsor and a person is not required to respond to a collection of information unless it displays a currently valid OMB control number.

DATES: Additional comments may be submitted on or before April 29, 2020.

ADDRESSES: Submit your comments, referencing Docket ID Number EPA-HQ-OAR-2019-0489, to (1) EPA online using www.regulations.gov (our preferred method), or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: David Wright, Compliance Division, Office of Transportation and Air Quality, Environmental Protection Agency, 2000 Traverwood Dr., Ann Arbor, MI 48105; telephone number: 734-214-4467; fax number: 734-214-4869; email address: wright.davida@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: EPA sets exhaust, evaporative, and greenhouse gas emissions standards for light-duty vehicles (LDVs) and light-duty trucks (LDTs) based on the authority granted to the Agency by the Clean Air Act (CAA). In addition, light-duty vehicle manufacturers use the results from the exhaust emission tests to calculate vehicle fuel economy. The fuel economy results are used to calculate fuel economy label values according to EPA regulations. EPA regulations define test procedures, in-use testing requirements, calculation methods, vehicle labeling, and reporting requirements for light-duty vehicle manufacturers.

This ICR is organized into six information collections (ICs): (1) Fuel Economy; (2) Manufacturers' In-Use Verification Program; (3) Light-Duty Vehicles and Light-Duty Trucks Emissions; (4) Defect Reports and Voluntary Emissions Recall Reports; (5) Fuel Economy Labeling; and, (6) Tier 3 Motor Vehicle Emission Standards.

This ICR covers the application submitted by light-duty vehicle manufacturers prior to production as well as various reports and information submitted during and after production. Processing and review of this information is conducted by the Light-Duty Vehicle Center, Compliance Division, Office of Transportation and Air Quality, Office of Air and Radiation US EPA.

Information collected consists of descriptions of motor vehicles (including vehicle specifications, i.e. weight and road load forces, required for testing and emission control system components), test results, defect and recall reports, and sales data (used to determine compliance with fleet average standards). EPA performs tests to confirm the emission and fuel economy results which have been generated by the manufacturer at their test facilities. EPA performs confirmatory testing on 10% to 15% of all the vehicle tests the manufacturers perform. All of these data are electronically submitted to the Agency.

This ICR covers the information that affected respondents must provide to the Agency. Any information submitted to the Agency for which a claim of confidentiality is made is safeguarded according to policies set forth in CFR title 40, chapter 1, part 2, subpart B—Confidentiality of Business Information (see 40 CFR part 2).

Form Numbers: Form 5800-258—Template for Light-duty Conversion of Intermediate Age System (Light-Duty Vehicles and Light-Duty Trucks Emissions IC); Form 5900-257—Template for Light-duty Conversion of Outside Useful Life System (Light-Duty Vehicles and Light-Duty Trucks Emissions IC); Form 5900-471—Template for Tier 3 Light-duty FTP and SFTP AB&T Reporting (Tier 3 Motor Vehicle Emissions IC); Form 5900-470—Template for Tier 3 Heavy-duty NMOG+NOX, Evaporative and Cold NMHC AB&T Reporting (Tier 3 Motor Vehicle Emissions IC).

Respondents/affected entities: Manufacturers of light-duty passenger vehicles, light-duty trucks, medium-duty passenger vehicles and some heavy-duty vehicles.

Respondent's obligation to respond: Required in order to obtain or retain benefit.

Estimated number of respondents: 48 (total).

Frequency of response: Occasionally.

Total estimated burden: 778,320 hours (per year). Burden is defined at 5 CFR 1320.03(b).

Total estimated cost: $91,025,023 (per year), which includes $38,928,401 in annualized capital and operation & maintenance costs.

Changes in the estimates: There is an increase of 16,138 hours in the total estimated respondent burden compared with the ICR currently approved by OMB. This increase is due to a slight increase in the number of test groups light-duty vehicle manufacturers are certifying.

Courtney Kerwin,
Director, Regulatory Support Division.

[FR Doc. 2020-06577 Filed 3-27-20; 8:45 am]

BILLING CODE 6560-50-P